ENVIRONMENTAL PROTECTION AGENCY

40 CFR Ch. I

[FRL 12747-01-OA; EPA-HQ-OAR-2024-0404; EPA-HQ-OAR-2024-0089]

Spring 2025 Unified Agenda of Regulatory and Deregulatory Actions

AGENCY: Environmental Protection Agency.

ACTION: Semiannual Regulatory Agenda.

SUMMARY: The Environmental Protection Agency (EPA) publishes the Semiannual Agenda of Regulatory and Deregulatory Actions online at https://www.reginfo.gov to periodically update the public. This document contains information about:

• Regulations in the Semiannual Agenda that are under development, completed, or canceled since the last agenda; and

• Reviews of regulations with small business impacts under section 610 of the Regulatory Flexibility Act (RFA).

FOR FURTHER INFORMATION CONTACT: If you have questions or comments about a particular action, please get in touch with the agency contact listed in each agenda entry. If you have general questions about the Semiannual Agenda, please contact Lilly Boyd; boyd.lilly@epa.gov; (202) 564-1474.

Table of Contents

I. Introduction

A. The EPA's Regulatory Information

B. What key statutes and Executive Orders guide the EPA's rule and policymaking process?

C. How can you be involved in the EPA's rule and policymaking process?

II. Semiannual Agenda of Regulatory and Deregulatory Actions

A. What actions are included in the e-Agenda and the Regulatory Flexibility Agenda?

B. How is the e-Agenda organized?

C. What information is in the Regulatory Flexibility Agenda and the e-Agenda?

D. What tools are available for mining Regulatory Agenda data and for finding more about EPA rules and policies?

III. Review of Regulations Under Section 610 of the Regulatory Flexibility Act

A. Reviews of Rules With Significant Impacts on a Substantial Number of Small Entities

B. What other special attention does the EPA give to the impacts of rules on small businesses, small governments, and small nonprofit organizations?

IV. Thank You for Collaborating With Us

SUPPLEMENTARY INFORMATION:

I. Introduction

The EPA is committed to a regulatory strategy that effectively achieves the Agency's mission of protecting human health and the environment. The EPA publishes the Semiannual Agenda of Regulatory and Deregulatory Actions to update the public about regulatory activity undertaken in support of this mission. In the Semiannual Agenda, the EPA provides notice of our plans to review, propose, and issue regulations.

Additionally, the EPA's Semiannual Agenda includes information about rules that may have a significant economic impact on a substantial number of small entities, and review of those regulations under the Regulatory Flexibility Act as amended.

In this document, the EPA explains in greater detail the types of actions and information available in the Semiannual Agenda and actions that are currently undergoing review specifically for impacts on small entities.

A. The EPA's Regulatory Information

“E-Agenda,” “online regulatory agenda,” and ”semiannual regulatory agenda” all refer to the same comprehensive collection of information that, until 2007, was published in the Federal Register (FR). Currently, this information is only available through an online database at https://www.reginfo.gov/.

“Regulatory Flexibility Agenda” refers to a document that contains information about the subset of regulations that may have a significant impact on a substantial number of small entities. We continue to publish this document in the Federal Register pursuant to the Regulatory Flexibility Act of 1980. This document is available at https://www.govinfo.gov/app/collection/fr.

“Unified Regulatory Agenda” refers to the collection of all agencies' agendas with an introduction prepared by the Regulatory Information Service Center facilitated by the U.S. General Services Administration.

“Regulatory Agenda Preamble” refers to the document you are reading now. It appears as part of the Regulatory Flexibility Agenda and introduces both the EPA's Regulatory Flexibility Agenda and the e-Agenda.

“Section 610 Review” as required by the Regulatory Flexibility Act means a periodic review within ten years of promulgating a final rule that has or may have a significant economic impact on a substantial number of small entities. The EPA maintains a list of these actions at https://www.epa.gov/reg-flex/regulatory-flexibility-act-section-610-reviews. The EPA is concluding one section 610 review and has another ongoing review with this semiannual agenda in spring 2025, as described in section III.A. below.

B. What key statutes and Executive Orders guide the EPA's rule and policymaking process?

Several environmental laws authorize the EPA's actions, including but not limited to:

• American Innovation and Manufacturing Act (AIM),

• Clean Air Act (CAA),

• Clean Water Act (CWA),

• Comprehensive Environmental Response, Compensation, and Liability Act (CERCLA, or Superfund),

• Emergency Planning and Community Right-to-Know Act (EPCRA),

• Federal Insecticide, Fungicide, and Rodenticide Act (FIFRA),

• Resource Conservation and Recovery Act (RCRA),

• Safe Drinking Water Act (SDWA), and

• Toxic Substances Control Act (TSCA).

The EPA must comply not only with environmental and other statutes, but also with applicable administrative legal requirements that apply to the issuance of regulations, such as the Administrative Procedure Act (APA), the RFA as amended by the Small Business Regulatory Enforcement Fairness Act (SBREFA), the Unfunded Mandates Reform Act (UMRA), the Paperwork Reduction Act (PRA), the National Technology Transfer and Advancement Act (NTTAA), and the Congressional Review Act (CRA).

The EPA also meets a number of requirements contained in numerous Executive Orders: 12866, “Regulatory Planning and Review” (58 FR 51735, Oct. 4, 1993); 14192, “Unleashing Prosperity Through Deregulation” (90 FR 9065, Feb. 6, 2025); 13045, “Children's Health Protection” (62 FR 19885, Apr. 23, 1997); 13132, “Federalism” (64 FR 43255, Aug. 10, 1999); 13175, “Consultation and Coordination with Indian Tribal Governments” (65 FR 67249, Nov. 9, 2000); and 13211, “Actions Concerning Regulations That Significantly Affect Energy Supply, Distribution, or Use” (66 FR 28355, May 22, 2001).

C. How can you be involved in the EPA's rule and policymaking process?

You can make your voice heard by getting in touch with the contact person provided in each agenda entry. The EPA encourages you to participate as early in the process as possible. You may also participate by commenting on proposed rules published in the Federal Register.

Instructions on how to submit your comments through https://www.regulations.gov are provided in each Notice of Proposed Rulemaking (NPRM). To be most effective, comments should contain information and data that support your position, and you also should explain why the EPA should incorporate your suggestion into the rule or other type of action. You can be particularly helpful and persuasive if you provide examples to illustrate your concerns and offer specific alternative(s) to what has been proposed by the EPA.

The EPA believes its actions will be more cost effective and protective if the development process includes stakeholders working with us to help identify the most practical and effective solutions to environmental problems. For more information about the EPA's efforts to increase participation in EPA activities, please visit https://www.epa.gov/laws-regulations/get-involved-epa-regulations.

II. Semiannual Agenda of Regulatory and Deregulatory Actions

A. What actions are included in the e-Agenda and the Regulatory Flexibility Agenda?

The EPA includes key regulatory actions in the e-Agenda. However, there is no legal significance to the omission of an item from the agenda, and the EPA generally does not include the following categories of actions:

• Administrative actions such as delegations of authority, changes of address, or phone numbers.

• Under the CAA: Revisions to state implementation plans; equivalent methods for ambient air quality monitoring; deletions from the new source performance standards source categories list; delegations of authority to states; area designations for air quality planning purposes.

• Under FIFRA: Registration-related decisions, actions affecting the status of currently registered pesticides, and data call-ins.

• Under the Federal Food, Drug, and Cosmetic Act: Actions regarding pesticide tolerances and food additive regulations.

• Under TSCA: Licensing actions and new chemical actions.

• Under RCRA: Authorization of State solid waste management plans and hazardous waste delisting petitions.

• Under the CWA: State Water Quality Standards, deletions from the section 307(a) list of toxic pollutants, suspensions of toxic testing requirements under the National Pollutant Discharge Elimination System (NPDES), and delegations of NPDES authority to States.

• Under SDWA: Actions on State underground injection control programs.

Meanwhile, the Regulatory Flexibility Agenda includes:

• Actions likely to have a significant economic impact on a substantial number of small entities.

• Rules the Agency has identified for review under section 610 of the RFA.

The EPA is concluding one review and has another ongoing review under section 610 of the RFA in this Agenda. See section III.A. for further detail.

B. How is the e-Agenda organized?

You can choose how to sort the agenda entries online by specifying the characteristics of the entries of interest in the desired individual data fields of the e-Agenda at https://www.reginfo.gov. You can sort based on the following characteristics: EPA subagency (such as Office of Water), stage of rulemaking as described in the following paragraphs, alphabetically by title, or the Regulation Identifier Number (RIN), which is assigned sequentially when an action is added to the agenda.

Each entry in the agenda is associated with one of five rulemaking stages. The rulemaking stages are:

1. Pre-rule Stage—The EPA's pre-rule actions are generally intended to determine whether the agency should initiate rulemaking. Pre-rulemakings may include anything that influences or leads to rulemaking; this would include Advance Notices of Proposed Rulemaking (ANPRMs) or analyses of the possible need for regulatory action.

2. Proposed Rule Stage—Proposed rulemaking actions include the EPA's Notice of Proposed Rulemakings (NPRMs); these proposals are scheduled to publish in the Federal Register within the next year.

3. Final Rule Stage—Final rulemaking actions are those actions that the EPA is scheduled to finalize and publish in the Federal Register within the next year.

4. Long-Term Actions—This section includes rulemakings for which the next scheduled regulatory action (such as publication of a NPRM or final rule) is twelve or more months into the future. We encourage you to explore becoming involved even if an action is listed in the Long-Term category.

5. Completed Actions—The EPA's completed actions are those that have been promulgated and published in the Federal Register since publication of the fall 2024 Agenda. This category also includes actions that the EPA is no longer considering and has elected to “withdraw” and the results of any RFA section 610 reviews.

C. What information is in the Regulatory Flexibility Agenda and the e-Agenda?

The Regulatory Flexibility Agenda entries include ten categories of information that are required by the Regulatory Flexibility Act of 1980 and by Federal Register Agenda printing requirements: Sequence Number, RIN, Title, Description, Statutory Authority, Section 610 Review, if applicable, Regulatory Flexibility Analysis Required, Schedule and Contact Person. Note that the electronic version of the Agenda (E-Agenda) replicates each of these actions with more extensive information, described below.

E-Agenda entries include:

Title: A brief description of the subject of the regulation. The notation ”Section 610 Review” follows the title if we are reviewing the rule as part of our periodic review of existing rules under section 610 of the RFA (5 U.S.C. 610).

Priority: Each entry is placed into one of the following five categories:

a. Economically Significant: Under Executive Order 12866, as amended, a rulemaking that may have an annual effect on the economy of $100 million or more, or adversely affect in a material way the economy, a sector of the economy, productivity, competition, jobs, the environment, public health or safety, or State, local, or tribal governments or communities.

b. Other Significant: A rulemaking that is not economically significant but is considered significant for other reasons. This category includes rules that may:

1. Create a serious inconsistency or otherwise interfere with an action taken or planned by another agency.

2. Materially alter the budgetary impact of entitlements, grants, user fees, or loan programs, or the rights and obligations of recipients; or

3. Raise novel, legal or policy issues arising out of legal mandates, the President's priorities, or the principles set forth in Executive Order 12866.

c. Substantive, Nonsignificant: A rulemaking that has substantive impacts but is not Significant, Routine and Frequent, or Informational/Administrative/Other.

d. Routine and Frequent: A rulemaking that is a specific case of a recurring application of a regulatory program in the Code of Federal Regulations.

e. Informational/Administrative/Other: An action that is primarily informational or pertains to an action outside the scope of Executive Order 12866.

E.O. 14192 Designation: Each entry is placed into one of the following five categories:

a. Deregulatory: A rulemaking that when finalized and is expected to have total costs less than zero.

b. Regulatory: A significant regulatory action under E.O. 12866 that has been reviewed by OIRA that when finalized is expected to impose total costs greater than zero.

c. Fully or Partially Exempt: A rulemaking that has been granted certain exemptions outlined by OIRA.

d. Not Subject To or Not Significant: A rulemaking that is neither considered Deregulatory or Regulatory under the terms described above.

e. Other: Where information is too preliminary to determine if an action is Deregulatory or Regulatory, or other circumstances preclude a designation, as outlined by OIRA.

Major: A rule is “major” under 5 U.S.C. 801 (Pub. L. 104-121) if it has resulted or is likely to result in an annual effect on the economy of $100 million or more or meets other criteria specified in the Congressional Review Act.

Unfunded Mandates: Whether the rule is covered by section 202 of the Unfunded Mandates Reform Act of 1995 (Pub. L. 104-4). The Act requires that, before issuing a NPRM likely to result in a mandate that may result in expenditures by State, local, and tribal governments, in the aggregate, or by the private sector of more than $100 million in 1 year, the agency prepare a written statement on federal mandates addressing costs, benefits, and intergovernmental consultation.

Legal Authority: The sections of the United States Code (U.S.C.), Public Law (Pub. L.), Executive Order (E.O.), or common name of the law that authorizes the regulatory action.

CFR Citation: The section(s) of the Code of Federal Regulations that would be affected by the action.

Legal Deadline: An indication of whether the rule is subject to a statutory and/or a judicial deadline, the date of that deadline, and whether the deadline pertains to a NPRM, a Final Action, or some other action.

Abstract: A brief description of the problem the action will address.

Timetable: The dates and citations (if available) for all past steps and a projected date for at least the next step for the regulatory action. A date displayed in the form 03/00/2026 means the agency is predicting the month and year the action will take place but not the day it will occur. For some entries, the timetable indicates that the date of the next action is “to be determined.”

Regulatory Flexibility Analysis Required: Indicates whether the EPA has prepared or anticipates preparing a regulatory flexibility analysis under section 603 or 604 of the RFA. Generally, such an analysis is required for proposed or final rules subject to the RFA that the EPA believes may have a significant economic impact on a substantial number of small entities.

Small Entities Affected: Indicates whether the rule is anticipated to have any effect on small businesses, small governments, or small nonprofit organizations.

Government Levels Affected: Indicates whether the rule may have any effect on levels of government and, if so, whether the affected governments are federal, tribal, state, or local.

Federalism Implications: Indicates whether the action is expected to have substantial direct effects on the States, on the relationship between the National Government and the States, or on the distribution of power and responsibilities among the various levels of government.

Energy Impacts: Indicates whether the action is a significant energy action under Executive Order 13211.

Sectors Affected: Indicates the main economic sectors regulated by the action. The regulated parties are identified by their North American Industry Classification System (NAICS) codes. These codes were created by the Census Bureau for collecting, analyzing, and publishing statistical data on the U.S. economy. There are more than 1,000 NAICS codes for sectors in agriculture, mining, manufacturing, services, and public administration.

International Trade Impacts: Indicates whether the action is likely to have international trade or investment effects, or otherwise be of international interest.

Agency Contact: The name, address, phone number, and email address of a person who is knowledgeable about the regulation.

Additional Information: Other information about the action including docket information.

URLs: For some actions, the internet addresses are included for reading copies of rulemaking documents, submitting comments on proposals, and getting more information about the rulemaking and the program of which it is a part.

RIN: The Regulation Identifier Number is used by the OMB and the public to identify and track rulemakings. The first four digits of the RIN correspond to the EPA office with lead responsibility for developing the action.

D. What tools are available for mining Regulatory Agenda data and for finding more about EPA rules and policies?

1. Federal Regulatory Dashboard

The https://www.reginfo.gov searchable database maintained by the Regulatory Information Service Center and the OMB's Office of Information and Regulatory Affairs (OIRA), allows users to view the Regulatory Agenda database (https://www.reginfo.gov/public/do/eAgendaMain), with options for searching, displaying, and transmitting data.

2. Subject Matter EPA Websites

Some actions listed in the Agenda include a URL for an EPA-maintained website that provides additional information about the action.

3. Public Dockets

When the EPA publishes either an ANPRM or a NPRM in the Federal Register, the Agency typically establishes a docket to accumulate materials developed throughout the development process for that rulemaking. The docket serves as the repository for the collection of documents or information related to that Agency's action or activity, and is accessible both electronically or at the EPA's Docket Center Reading Room (https://www.epa.gov/dockets). The EPA uses dockets primarily for rulemaking actions, but dockets may also be used for section 610 reviews and for various non-rulemaking activities, such as Federal Register documents seeking public comments on draft guidance, policy statements, information collection requests under the PRA, and other non-rule activities. Docket information should be in that action's agenda entry. All the EPA's public dockets can be located at https://www.regulations.gov. The EPA particularly welcomes feedback on rulemakings from communities likely to be affected by these actions.

III. Review of Regulations Under Section 610 of the Regulatory Flexibility Act

A. Reviews of Rules With Significant Impacts on a Substantial Number of Small Entities

Section 610 of the RFA requires that an agency review each rule that has or will have a significant economic impact on a substantial number of small entities within 10 years of promulgation. Currently, the EPA is concluding one Section 610 review and has another ongoing 610 review.

Review title | RIN | Docket ID No. | Status
Section 610 Review of Standards of Performance for New Residential Wood Heaters, New Residential Hydronic Heaters and Forced-Air Furnaces | 2060-AW17 | EPA-HQ-OAR-2024-0089 | Concluded.
Section 610 Review of National Emission Standards for Hazardous Air Pollutants for Brick and Structural Clay Products Manufacturing; and Clay Ceramics Manufacturing | 2060-AW31 | EPA-HQ-OAR-2024-0404 | Ongoing; See 90 FR 14227.

B. What other special attention does the EPA give to the impacts of rules on small businesses, small governments, and small nonprofit organizations?

For each of the EPA's rulemakings, consideration is given to whether there will be any adverse impact on any small entity. The EPA attempts to fit the regulatory requirements, to the extent feasible, to the scale of the businesses, organizations, and governmental jurisdictions subject to the regulation.

Under the RFA as amended by SBREFA, the Agency must prepare a formal analysis of the potential negative impacts on small entities, convene a Small Business Advocacy Review Panel (proposed rule stage), and prepare a Small Entity Compliance Guide (final rule stage) unless the Agency certifies a rule will not have a significant economic impact on a substantial number of small entities. For more detailed and current information about the Agency's policy and practice with respect to implementing the RFA/SBREFA, including ongoing Small Business Advocacy Review Panels, please visit the EPA's RFA/SBREFA website at https://www.epa.gov/reg-flex.

IV. Thank You for Collaborating With Us

We would like to thank those of you who choose to join with us in making progress on the complex issues involved in protecting human health and the environment through engaging in our rulemaking process. Collaborative efforts such as the EPA's open rulemaking processes are valuable tools for implementing our legal requirements to address environmental and public health challenges. Our regulatory agenda and your engagement play an important role in that process.

Becky W. Keogh,
Associate Administrator, Office of Policy.

10—Clean Air Act—Prerule Stage
Sequence No. | Title | Regulation Identifier No.
159 | National Emission Standards for Hazardous Air Pollutants for Brick and Structural Clay Products Manufacturing; and Clay Ceramics Manufacturing (Section 610 Review) | 2060-AW31

10—Clean Air Act—Long-Term Actions
Sequence No. | Title | Regulation Identifier No.
160 | NESHAP for Halogenated Solvent Cleaners: RTR Reconsideration and Amendments (40 CFR Part 63, Subpart T) | 2060-AW44

10—Clean Air Act—Completed Actions
Sequence No. | Title | Regulation Identifier No.
161 | Review of Standards of Performance for New Residential Wood Heaters, New Residential Hydronic Heaters and Forced-Air Furnaces (Section 610 Review) (Section 610 Review) | 2060-AW17

35—TSCA—Final Rule Stage
Sequence No. | Title | Regulation Identifier No.
162 | 1-Bromopropane (1-BP); Regulation Under the Toxic Substances Control Act (TSCA) | 2070-AK73
163 | N-Methylpyrrolidone (NMP); Regulation Under the Toxic Substances Control Act (TSCA) | 2070-AK85

35—TSCA—Long-Term Actions
Sequence No. | Title | Regulation Identifier No.
164 | Reconsideration of the Soil-Lead Hazard Standards | 2070-AL12

35—TSCA—Completed Actions
Sequence No. | Title | Regulation Identifier No.
165 | Trichloroethylene (TCE); Regulation Under the Toxic Substances Control Act (TSCA) | 2070-AK83
166 | Perchloroethylene (PCE); Regulation Under the Toxic Substances Control Act (TSCA) | 2070-AK84

72—SDWA—Completed Actions
Sequence No. | Title | Regulation Identifier No.
167 | National Primary Drinking Water Regulations for Lead and Copper: Improvements (LCRI) | 2040-AG16

Environmental Protection Agency (EPA): 10—Clean Air Act | Prerule Stage

159. NATIONAL EMISSION STANDARDS FOR HAZARDOUS AIR POLLUTANTS FOR BRICK AND STRUCTURAL CLAY PRODUCTS MANUFACTURING; AND CLAY CERAMICS MANUFACTURING (SECTION 610 REVIEW) [2060-AW31]

Legal Authority: 5 U.S.C. 610; 42 U.S.C. 7401

Abstract: On October 26, 2015, EPA published a final rule to amend the National Emission Standards for Hazardous Air Pollutants (NESHAP) for Brick and Structural Clay Products (BSCP) Manufacturing and Clay Ceramics Manufacturing (40 CFR part 63, subpart JJJJJ and subpart KKKKK respectively) to finalize maximum achievable control technology (MACT) standards for mercury, non-mercury metal HAP (or particulate matter (PM) as a surrogate), dioxins/furans (Clay Ceramics only), health-based standards for acid gas HAP; and work practice standards, where applicable. On March 31, 2025 EPA announced its review of the October 26, 2015, action pursuant to section 610 of the Regulatory Flexibility Act (5 U.S.C. 610) to determine if the provisions that could affect small entities should be maintained or should be rescinded or amended to minimize adverse economic impacts on small entities (90 FR 14227). As part of this review, EPA is considering and soliciting comments on the following factors: (1) The continued need for the rule; (2) the nature of complaints or comments received concerning the rule; (3) the complexity of the rule; (4) the extent to which the rule overlaps, duplicates, or conflicts with other Federal, State, or local government rules; and (5) the degree to which the technology, economic conditions or other factors have changed in the area affected by the rule. Comments are being accepted through May 30, 2025. In submitting or reviewing comments, please reference Docket ID EPA-HQ-OAR-2024-0404.

Timetable:

Action | Date | FR Cite
Final Rule | 10/26/15 | 80 FR 80 FR 65470
Begin Review | 03/31/25 | 90 FR 14227
End Review | 12/00/25

Regulatory Flexibility Analysis Required: No

Agency Contact: Brian Storey, Environmental Protection Agency, Office of Air and Radiation, 109 T.W. Alexander Drive, Mail Code D243-04, Research Triangle Park, NC 27711

Phone: 919 541-1103

Fax: 919 541-4991

Email: storey.brian@epa.gov

RIN: 2060-AW31

Environmental Protection Agency (EPA): 10—Clean Air Act | Long-Term Actions

160. NESHAP FOR HALOGENATED SOLVENT CLEANERS: RTR RECONSIDERATION AND AMENDMENTS (40 CFR PART 63, SUBPART T) [2060-AW44]

Legal Authority: 42 U.S.C. 7401

Abstract: The EPA promulgated a rulemaking for the halogenated solvent cleaners source category in 2007 (72 FR 25138; May 3, 2007). That rule, applicable to existing and new sources of hazardous air pollutants, included National Emission Standards for Hazardous Air Pollutants (NESHAP) at 40 CFR part 63, subpart T, to limit emissions of three pollutants: methylene chloride; trichloroethylene; and perchloroethylene. Following promulgation, the EPA received several petitions for reconsideration. The planned-for action would address petitioners' issues by providing a required periodic technology review to satisfy Clean Air Act (CAA) section 112(d)(6). In addition, while we do not plan to redo the current risk analysis, we do plan to address the comments raised on the risk analysis as part of the petitions for reconsideration. Further, pursuant to subsections (d)(2) and (d)(3) of CAA section 112, the amendments would newly include technology-based emission standards (maximum achievable control technology, or MACT) for 1-bromopropane (1-BP; also known as n-propyl bromide, nPB). The chemical compound 1-BP was listed as a HAP under CAA section 112(c) effective February 4, 2022 (87 FR 393; January 5, 2022).

Timetable:

Action | Date | FR Cite
NPRM | 02/00/29
Final Rule | 07/00/30

Regulatory Flexibility Analysis Required: Yes

Agency Contact: Lisa Sutton, Environmental Protection Agency, Office of Air and Radiation, 109 T.W. Alexander Drive, Mail Code E143-01, Research Triangle Park, NC 27711

Phone: 919 541-3450

Email: sutton.lisa@epa.gov

RIN: 2060-AW44

Environmental Protection Agency (EPA): 10—Clean Air Act | Completed Actions

161. REVIEW OF STANDARDS OF PERFORMANCE FOR NEW RESIDENTIAL WOOD HEATERS, NEW RESIDENTIAL HYDRONIC HEATERS AND FORCED-AIR FURNACES (SECTION 610 REVIEW) (SECTION 610 REVIEW) [2060-AW17]

Legal Authority: 42 U.S.C. 7411; 5 U.S.C. 610

Abstract: On March 16, 2015, EPA published a final rule that revised the New Source Performance Standards (NSPS) for new residential wood heaters (80 FR 13672). The 2015 final rule (40 CFR part 60, subparts AAA and QQQQ) updated the 1988 New Source Performance Standard (NSPS) to reflect significant advancements in wood heater technologies and design, broadened the range of residential wood-heating appliances covered by the regulation, and improved and streamlined implementation procedures. The 2015 rule requires manufacturers to redesign wood heaters to be cleaner and lower emitting. In general, the design changes also make the heaters perform better and more efficiently. This entry in the regulatory agenda describes EPA's conclusion of review of this action pursuant to section 610 of the Regulatory Flexibility Act (5 U.S.C. 610) to determine if the provisions that could affect small entities should be maintained or should be rescinded or amended to minimize adverse economic impacts on small entities. As part of this review, EPA considered comments on the following factors: (1) The continued need for the rule; (2) the nature of complaints or comments received concerning the rule; (3) the complexity of the rule; (4) the extent to which the rule overlaps, duplicates, or conflicts with other Federal, State, or local government rules; and (5) the degree to which the technology, economic conditions or other factors have changed in the area affected by the rule. The results of EPA's review have been summarized in a report and placed in the docket. EPA received four comments in response to the Section 610 Review of the 2015 Residential Wood Heater NSPS that was published in the Federal Register on August 16, 2024 (89 FR 66868). Based on this review, the EPA has concluded that: there is still a need to mitigate particulate emissions from residential wood heaters; no new residential wood heater technology has superseded the need for rules; the rules serve a purpose that is distinct from state and local governments' as well as other agencies' rules; the current residential wood heater NSPS rules are complex to the residential wood heaters NSPS rules need to be reviewed and potentially revised to reduce particulate emissions in practice to ensure that the use of residential wood heaters is protective of public health, while still being reliable and effective, and the residential wood heaters NSPS rules need to be reviewed and potentially revised to ensure that small entities are not unduly burdened. As part of the CAA statutorily required periodic review and the schedule agreed upon in the consent decree entered in State of New York v. Regan, No. 1:23-cv-2767 (D.D.C.), EPA will conduct a review of the 2015 RWH NSPS rules. The EPA will continue to work with small-entity representatives to minimize any potential unfavorable impacts as a result of its review of the 2015 RWH NSPSs under the CAA's statutory mandate and court-entered consent decree. This review's Docket ID number is EPA-HQ-OAR-2024-0089.

Timetable:

Action | Date | FR Cite
Final Rule | 03/16/15 | 80 FR 13672
Begin Review | 08/16/24 | 89 FR 66866
End Review | 06/30/25

Regulatory Flexibility Analysis Required: No

Agency Contact: Bill Schrock, Environmental Protection Agency, Office of Air and Radiation, 109 T.W. Alexander Drive, Mail Code E143-03, Research Triangle Park, NC 27711

Phone: 919 541-5032

Email: schrock.bill@epa.gov

Nicholas Swanson, Environmental Protection Agency, Office of Air and Radiation, E143-03, Research Triangle Park, NC 27711

Phone: 919 541-4080

Email: swanson.nicholas@epa.gov

RIN: 2060-AW17

Environmental Protection Agency (EPA): 35—TSCA | Final Rule Stage

162. 1-BROMOPROPANE (1-BP); REGULATION UNDER THE TOXIC SUBSTANCES CONTROL ACT (TSCA) [2070-AK73]

Legal Authority: 15 U.S.C. 2605 Toxic Substances Control Act

Abstract: EPA is developing a final rule under section 6(a) of the Toxic Substances Control Act (TSCA) to address unreasonable risk of injury to health presented by 1-bromopropane (1-BP). EPA proposed this rule on August 8, 2024. Section 6(a) of TSCA requires EPA address by rule any unreasonable risk identified in a TSCA risk evaluation and apply requirements to the extent necessary so the chemical no longer presents unreasonable risk. 1-BP is a widely used solvent in a variety of occupational and consumer applications, including vapor degreasing, aerosol degreasing, adhesives and sealants, and in insulation. EPA determined that 1-BP presents an unreasonable risk of injury to health due to the significant adverse health effects associated with exposure to 1-BP, including neurotoxicity, developmental toxicity from acute and chronic inhalation exposures and dermal exposures, and cancer from chronic inhalation exposures. EPA is developing a final rule to address the identified unreasonable risk presented by 1-BP under its conditions of use. EPA proposed requirements to, among other things, prevent consumer access to the chemical, restrict the industrial and commercial use of the chemical while also allowing for a reasonable transition period where an industrial and commercial use of the chemical is being prohibited, and protect workers from the unreasonable risk of 1-BP while on the job. The Agency's development of this rule incorporates significant stakeholder outreach and public participation, including public webinars and over 40 external meetings, Federalism and Tribal consultations, and consultations with potentially affected small entities by a Small Businesses Advocacy Review Panel. Specifically, EPA engaged in discussions with industry, non-governmental organizations, other government agencies, technical experts and users of 1-BP, and the general public to hear from users, academics, manufacturers, and members of the public health community about practices related to commercial uses of 1-BP. EPA's final risk evaluation for 1-BP, describing the conditions of use, is in docket EPA-HQ-OPPT-2019-0235, with the 2022 unreasonable risk determination and additional materials in docket EPA-HQ-OPPT-2016-0741.

Timetable:

Action | Date | FR Cite
NPRM | 08/08/24 | 89 FR 65066
Final Rule | 04/00/26

Regulatory Flexibility Analysis Required: Yes

Agency Contact: Olivia Bailey, Environmental Protection Agency, Office of Chemical Safety and Pollution Prevention, 1200 Pennsylvania Avenue NW, Washington, DC 20460

Phone: 202 566-0894

Email: bailey.olivia.m@epa.gov

Joel Wolf, Environmental Protection Agency, Office of Chemical Safety and Pollution Prevention, 1200 Pennsylvania Avenue NW, Mail Code 7404M, Washington, DC 20460

Phone: 202 564-0432

Email: wolf.joel@epa.gov

RIN: 2070-AK73

163. N-METHYLPYRROLIDONE (NMP); REGULATION UNDER THE TOXIC SUBSTANCES CONTROL ACT (TSCA) [2070-AK85]

Legal Authority: 15 U.S.C. 2605 Toxic Substances Control Act

Abstract: EPA is developing a final rule under the Toxic Substances Control Act (TSCA) to address the unreasonable risk of injury to human health presented by n-methylpyrrolidone (NMP). NMP is a widely used solvent in a variety of industrial, commercial, and consumer applications including the manufacture and production of electronics such as semiconductors, polymers, petrochemical products, paints and coatings, and paint and coating removers. EPA determined that NMP presents an unreasonable risk of injury to health due to the significant adverse health effects associated with exposure to NMP, including developmental post-implantation fetal loss from short-term exposure and reduced fertility and fecundity from long-term exposure. Additional adverse effects associated with exposure to NMP include liver toxicity, kidney toxicity, immunotoxicity, neurotoxicity, skin irritation, and sensitization. TSCA requires that EPA address by rule any unreasonable risk of injury to health or the environment identified in a TSCA risk evaluation and apply requirements to the extent necessary so the chemical no longer presents unreasonable risk. On June 14, 2024, EPA proposed requirements to: prohibit the manufacture (including import), processing, and distribution in commerce and use of NMP in several occupational conditions of use; require worker protections through an NMP workplace chemical protection program (WCPP) or prescriptive controls (including concentration limits) for most of the occupational conditions of use; require concentration limits on a consumer product; regulate certain consumer products to prevent commercial use; and establish recordkeeping, labeling, and downstream notification requirements. The Agency's development of this rule incorporated significant stakeholder outreach and public participation. EPA's 2020 final risk evaluation for NMP, describing its conditions of use is in docket EPA-HQ-OPPT-2019-0236, with the 2022 revised unreasonable risk determination and additional materials in docket EPA-HQ-OPPT-2016-0743.

Timetable:

Action | Date | FR Cite
NPRM | 06/14/24 | 89 FR 51134
Final Rule | 04/00/26

Regulatory Flexibility Analysis Required: Yes

Agency Contact: Clara Hull, Environmental Protection Agency, Office of Chemical Safety and Pollution Prevention, 1200 Pennsylvania Avenue NW, Mail Code 7404M, Washington, DC 20460

Phone: 202 564-3954

Email: hull.clara@epa.gov

Joel Wolf, Environmental Protection Agency, Office of Chemical Safety and Pollution Prevention, 1200 Pennsylvania Avenue NW, Mail Code 7404M, Washington, DC 20460

Phone: 202 564-0432

Email: wolf.joel@epa.gov

RIN: 2070-AK85

Environmental Protection Agency (EPA): 35—TSCA | Long-Term Actions

164. RECONSIDERATION OF THE SOIL-LEAD HAZARD STANDARDS [2070-AL12]

Legal Authority: 15 U.S.C. 2681 et seq. Toxic Substances Control Act Title IV

Abstract: EPA is reviewing the existing regulatory soil-lead hazard standards (SLHS) for target housing and child-occupied facilities (COFs). According to the Toxic Substances Control Act (TSCA) Title IV, section 401, lead-contaminated soil means bare soil on residential real property that contains lead at or in excess of the levels determined to be hazardous to human health by the Administrator. A lead-based paint hazard is defined as conditions that cause exposure to lead from lead-contaminated dust, soil or paint that would result in adverse human health effects. On January 5, 2001, the EPA issued a final regulation which established that a soil-lead hazard is bare soil on residential real property or on the property of a COF that contains lead equal to or exceeding 400 parts per million in a play area or average of 1,200 parts per million of bare soil in the rest of the yard based on soil samples. On May 14, 2021, in a decision reviewing a 2019 rule, the United States Court of Appeals for the Ninth Circuit held that EPA should have reconsidered the SLHS, among other actions when issuing its final regulation. In this action, EPA is reconsidering the SLHS and intends to solicit public comment through a notice of proposed rulemaking.

Timetable:

Action | Date | FR Cite
NPRM | 02/00/27

Regulatory Flexibility Analysis Required: Yes

Agency Contact: Claire Brisse, Office of Chemical Safety and Pollution Prevention, Environmental Protection Agency, 1200 Pennsylvania Avenue NW, Mail Code 7404M, Washington, DC 20460-0001

Phone: 202 564-9004

Email: brisse.claire@epa.gov

Victoria Ellenbogen, Environmental Protection Agency, Office of Chemical Safety and Pollution Prevention, Mail Code 7404M, 1200 Pennsylvania Avenue NW, Washington, DC 20460

Phone: 202 564-2053

Email: ellenbogen.victoria@epa.gov

RIN: 2070-AL12

Environmental Protection Agency (EPA): 35—TSCA | Completed Actions

165. TRICHLOROETHYLENE (TCE); REGULATION UNDER THE TOXIC SUBSTANCES CONTROL ACT (TSCA) [2070-AK83]

Legal Authority: 15 U.S.C. 2605 Toxic Substances Control Act

Abstract: On December 17, 2024, the Environmental Protection Agency (EPA or Agency) published a final rule to address the unreasonable risk of injury to health presented by trichloroethylene (TCE) under its conditions of use. TSCA requires that EPA address by rule any unreasonable risk of injury to health or the environment identified in a TSCA risk evaluation and apply requirements to the extent necessary so that the chemical no longer presents unreasonable risk. EPA's final rule is intended to prevent serious illness associated with uncontrolled exposures to the chemical by, among other things, preventing consumer access to the chemical, restricting the industrial and commercial use of the chemical while also allowing for a reasonable transition period with interim worker protections in place where an industrial and commercial use of the chemical is being prohibited, and provide time-limited exemptions for critical or essential uses of TCE for which no technically and economically feasible safer alternatives are available. EPA's final risk evaluation, describing the conditions of use and presenting EPA's determinations of unreasonable risk, is in docket EPA-HQ-OPPT-2019-0500, with additional information in docket EPA-HQ-OPPT-2016-0737.

Timetable:

Action | Date | FR Cite
NPRM | 10/31/23 | 88 FR 74712
Final Action | 12/17/24 | 89 FR 102568
Notice | 01/28/25 | 90 FR 8254
Notice | 04/02/25 | 90 FR 14415
Notice | 06/23/25 | 90 FR 26453
Final Action Effective | 08/19/25

Regulatory Flexibility Analysis Required: Yes

Agency Contact: Gabriela Rossner, Environmental Protection Agency, Office of Chemical Safety and Pollution Prevention, 1200 Pennsylvania Avenue NW, Mail Code 7404M, Washington, DC 20460

Phone: 202 564-2426

Email: rossner.gabriela@epa.gov

Joel Wolf, Environmental Protection Agency, Office of Chemical Safety and Pollution Prevention, 1200 Pennsylvania Avenue NW, Mail Code 7404M, Washington, DC 20460

Phone: 202 564-0432

Email: wolf.joel@epa.gov

RIN: 2070-AK83

166. PERCHLOROETHYLENE (PCE); REGULATION UNDER THE TOXIC SUBSTANCES CONTROL ACT (TSCA) [2070-AK84]

Legal Authority: 15 U.S.C. 2605 Toxic Substances Control Act

Abstract: On December 18, 2024, the Environmental Protection Agency (EPA or Agency) published a final rule to address the unreasonable risk of injury to health presented by perchloroethylene (PCE) under its conditions of use. TSCA requires that EPA address by rule any unreasonable risk of injury to health or the environment identified in a TSCA risk evaluation and apply requirements to the extent necessary so that the chemical no longer presents unreasonable risk. EPA's final rule is intended to prevent serious illness associated with uncontrolled exposures to the chemical by, among other things, preventing consumer access to the chemical, restricting the industrial and commercial use of the chemical while also allowing for a reasonable transition period where the industrial and commercial use of the chemical is being prohibited, providing a time-limited exemption for a critical or essential use of PCE for which no technically and economically feasible safer alternative is available, and protecting workers from the unreasonable risk of PCE while on the job. As described in more detail in the proposed and final rules, the Agency's development of this rule incorporated significant stakeholder outreach and public participation, including public webinars and over 40 external meetings as well as required Federalism and Tribal consultations and a Small Businesses Advocacy Review Panel. EPA's final risk evaluation for PCE, describing the conditions of use is in docket EPA-HQ-OPPT-2019-0502, with the 2022 unreasonable risk determination and additional materials in docket EPA-HQ-OPPT-2016-0732.

Timetable:

Action | Date | FR Cite
NPRM | 06/16/23 | 88 FR 39652
Final Rule | 12/18/24 | 89 FR 103560
Final Action Effective | 01/17/25

Regulatory Flexibility Analysis Required: Yes

Agency Contact: Kelly Summers, Environmental Protection Agency, Office of Chemical Safety and Pollution Prevention, 1200 Pennsylvania Avenue NW, Mail Code 7405M, Washington, DC 20460

Phone: 202 564-2201

Email: summers.kelly@epa.gov

Joel Wolf, Environmental Protection Agency, Office of Chemical Safety and Pollution Prevention, 1200 Pennsylvania Avenue NW, Mail Code 7404M, Washington, DC 20460

Phone: 202 564-0432

Email: wolf.joel@epa.gov

RIN: 2070-AK84

Environmental Protection Agency (EPA): 72—SDWA | Completed Actions

167. NATIONAL PRIMARY DRINKING WATER REGULATIONS FOR LEAD AND COPPER: IMPROVEMENTS (LCRI) [2040-AG16]

Legal Authority: 42 U.S.C. 300f et seq. Safe Drinking Water Act

Abstract: The Lead and Copper Rule Improvements rule (LCRI) was published on October 30, 2024, and became effective on December 30, 2024. The EPA developed the LCRI to strengthen the regulatory framework addressing lead in drinking water.

Timetable:

Action | Date | FR Cite
NPRM | 12/06/23 | 88 FR 84878
Final Rule | 10/30/24 | 89 FR 86418
Final Rule Effective | 12/30/24

Regulatory Flexibility Analysis Required: Yes

Agency Contact: Hannah Holsinger, Environmental Protection Agency, Office of Water, Washington, DC 20460

Phone: 202 564-0403

Email: holsinger.hannah@epa.gov

Michael Goldberg, Environmental Protection Agency, Office of Water, 1200 Pennsylvania Avenue NW, 4601M, Washington, DC 20460

Phone: 202 564-1137

Email: goldberg.michael@epa.gov

RIN: 2040-AG16

[FR Doc. 2025-18333 Filed 9-19-25; 8:45 am]

BILLING CODE 6560-50-P